DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 21, 2018.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on August 31, 2018.
Donald P. Burger,
Chief, General Approvals and Permits Branch.

Special Permits Data
Application No. | Applicant | Regulation(s) affected | Nature of the special permits thereof
12629-M | TEA TECHNOLOGIES INC | 173.302a(b)(2), 173.302a(b)(3), 173.302a(b)(4), 173.302a(b)(5), 180.205(c), 180.205(f), 180.205(g), 180.205(i) | To modify the special permit to include UN-ISO 11120 cylinders to list of cylinders authorized for retest (modes 1,2,3,4).
14188-M | STP PRODUCTS MANUFACTURING COMPANY | 173.304(d), 173.306(i) | To modify the special permit to authorize additional cylinder designs and pressures (modes 1,2,3,4).
14856-M | BKC INDUSTRIES INC | 180.209(a), 180.209(b) | To modify the special permit to authorize additional hazmat, change the CGA neck thread inspection procedures and correct the link to DOT referenced procedure. (modes 1,2,3).
14857-M | WESTERN SALES & TESTING OF AMARILLO INC | 180.209(a), 180.209(b) | To modify the special permit to authorize additional hazmat, editorial changes to CGA neck thread inspection procedures and edit incorrect link to DOT referenced procedure. (modes 1,2,3).
16413-M | AMAZON.COM, INC | 172.301(c), 173.185(c)(1)(iii), 173.185(c)(3)(i) | To modify the special permit to authorize an electronic copy of the special permit to be carried aboard the motor vehicle and to authorize the use of the lithium battery mark on the packaging. (mode 1).
16532-M | GENERAL ELECTRIC COMPANY | 173.185(f) | To authorize an increase in the watt hours of cells and batteries, to 300 and 10,800 respectively. (modes 1,2).
20612-M | WILCO MACHINE & FAB, INC | 178.345-7(a)(1) | To remove the requirement for an external visual inspection every six months. (mode 1).
20662-M | DEPARTMENT OF DEFENSE (MILITARY SURFACE DEPLOYMENT & DISTRIBUTION COMMAND) | 173.219(b) | To modify the special permit to change it from emergency to permanent. (modes 1,2,3).

[FR Doc. 2018-19307 Filed 9-5-18; 8:45 am]

BILLING CODE 4909-60-P